DEPARTMENT OF THE INTERIOR

National Park Service

[NPS-WASO-NRNHL-29726; PPWOCRAD10, PUC00RP14.R50000]

Cold War Advisory Committee Notice of Public Meeting

AGENCY: National Park Service, Interior.

ACTION: Meeting notice.

SUMMARY: The National Park Service (NPS) is hereby giving notice that the Cold War Advisory Committee (Committee) will hold a meeting via teleconference. The meeting is open to the public.

DATES: The Committee will meet via teleconference on Tuesday, March 31, 2020, from 1:00 p.m. until approximately 4:00 p.m. (Eastern).

FOR FURTHER INFORMATION CONTACT: Robie Lange, National Historic Landmarks Program Historian, National Park Service, telephone at (202) 354-2257, or email robie_lange@nps.gov. Teleconference participants must call the NPS office in Washington, DC at (202) 354-2257, between Thursday, March 26, 2020, and Monday, March 30, 2020, to receive teleconference information.

SUPPLEMENTARY INFORMATION: The Committee was established by Title VII, Subtitle C, Section 7210(c) of Public Law 111-11, the Omnibus Public Land Management Act of 2009, March 30, 2009 (16 U.S.C. 1a-5 note).

The Committee teleconference will be open to the public and will have time allocated for public comment. Please contact FOR FURTHER INFORMATION CONTACT for teleconference information.

Purpose of the Meeting: The Committee assists the Secretary of the Interior in the preparation of a national historic landmark theme study to identify sites and resources significant to the Cold War. The order of the agenda may be changed, if necessary. The meeting agenda includes:

1. Call to Order

2. Introductions

3. Deputy Associate Director, Preservation Assistance Programs' Welcome

4. Election of Committee Chair

5. Committee Discussion of Revised “Registration Requirements” Chapter of Draft National Historic Landmarks (NHL) Theme Study

6. Committee Discussion of Draft NHL Nomination for the former Strategic Air Command Ground Alert Facility at Mountain Home Air Force Base

7. NHL Program's Update on Cold War History Interpretive Handbook

8. Additional Committee Comments

9. Public Comments

10. Adjourn Meeting

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2020-05108 Filed 3-12-20; 8:45 am]

BILLING CODE 4312-52-P